DEPARTMENT OF COMMERCE

Patent and Trademark Office

Agency Information Collection Activities; Submission to the Office of Management and Budget (OMB) for Review and Approval; Comment Request; Patents for Humanity Program and Trademarks for Humanity Program

AGENCY: United States Patent and Trademark Office, Department of Commerce.

ACTION: Notice of information collection; request for comment.

SUMMARY: The United States Patent and Trademark Office (USPTO), as required by the Paperwork Reduction Act of 1995, invites comments on the extension and revision of an existing information collection: 0651-0066 (Patents for Humanity Program and Trademarks for Humanity Program). The purpose of this notice is to allow 60 days for public comment preceding submission of the information collection to OMB.

DATES: To ensure consideration, comments regarding this information collection must be received on or before December 24, 2024.

ADDRESSES: Interested persons are invited to submit written comments by any of the following methods. Do not submit Confidential Business Information or otherwise sensitive or protected information.

• Email: InformationCollection@uspto.gov. Include “0651-0066 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Soma Saha, Patent Attorney, Office of Policy and International Affairs, United States Patent and Trademark Office, P.O. Box 1450, Alexandria, VA 22313-1450; by telephone at 571-272-9300; or by email at patentsforhumanity@uspto.gov or trademarksforhumanity@uspto.gov with “0651-0066 comment” in the subject line. Additional information about this information collection is also available at http://www.reginfo.gov under “Information Collection Review.”

SUPPLEMENTARY INFORMATION:

I. Abstract

Since 2012, the United States Patent and Trademark Office (USPTO) has conducted the Patents for Humanity Program, a biannual award program to incentivize the distribution of patented technologies or products for the purpose of addressing humanitarian needs. The program is open to any patent owners or patent licensees, including inventors who have not assigned their ownership rights to others, assignees, and exclusive or non-exclusive licenses. The USPTO collects information from applicants that describe what actions they have taken with their patented technology to address the welfare of impoverished populations, or how they furthered research by others on technologies for humanitarian purposes. There are numerous categories of awards including: Medicine, Nutrition, Sanitation, Household Energy, and Living Standards. Sometimes the program includes additional categories specific for that year, for example, green energy.

The Patents for Humanity program provides winners with recognition and an acceleration certificate for one future patent matter. The applications that are chosen for an award will receive a certificate redeemable to accelerate select matters before the USPTO. The certificates can be redeemed to accelerate one of the following matters: an ex parte reexamination proceeding, including one appeal to the Patent Trial and Appeal Board (PTAB) from that proceeding; a patent application, including one appeal to the PTAB from that application; or an appeal to the PTAB of a claim twice rejected in a patent application or reissue application or finally rejected in an ex parte reexamination, without accelerating the underlying matter which generated the appeal. Finally, due to the January 2021 passage of the Patents for Humanity Program Improvement Act, winners of the Patents for Humanity program are now able to transfer their certificates to third parties, including by sale.¹

¹ https://www.congress.gov/116/plaws/publ316/PLAW-116publ316.pdf.

In 2023, the USPTO added the Trademarks for Humanity Program to promote and incentivize brand owners who offer products and services that help address humanitarian issues utilizing a federally registered trademark. Applicants are required to describe how their mark and their goods or services satisfy the program criteria to address humanitarian issues. Like the Patents for Humanity Program, this trademark-focused program operates biannually and can have a variety of topics depending upon the year. Trademarks for Humanity awards are focused on recognition and do not confer transfer of awards certificates like the Patents for Humanity Program.

Applications for both programs must provide non-public contact information in order for the USPTO to notify them about their award status. Applicants may opt to provide contact information for the public to reach them with any inquiries. Applications must be submitted via email and will be posted on the USPTO website. A panel of independent judges evaluate the applications and send the top-scoring ones to reviewers from participating federal agencies to recommend award recipients. Awards are public, and recipients receive recognition for their humanitarian efforts from the USPTO and executive branch leadership. Winners of both the Patents for Humanity Program and the Trademarks for Humanity Program are invited to participate in an awards ceremony.

This information collection covers the two application forms for the Patents for Humanity Program and the single application form for the Trademarks for Humanity Program. This information collection also covers the information gathered in Patents for Humanity petitions to extend an acceleration certificate redemption beyond 12 months, as well as the transfer of awards certificates. To account for the recent addition of the Trademarks for Humanity Program, the name of this information collection has been changed from “Patents for Humanity Program” to “Patents for Humanity Program and Trademarks for Humanity Program.”

II. Method of Collection

Items in this information collection must be submitted electronically.

III. Data

OMB Control Number: 0651-0066.

Forms: (PFH—Patents for Humanity, TFH—Trademarks for Humanity)

• PTO/PFH/001 (Humanitarian Use Application)

• PTO/PFH/002 (Humanitarian Research Use Application)

• PTO/PFH/003 (Petition to Extend the Redemption Period of a Patents for Humanity Program Acceleration Certificate)

• PTO/TFH/001 (Trademarks for Humanity Application)

Type of Review: Extension and revision of a currently approved information collection.

Affected Public: Private sector.

Respondent's Obligation: Required to obtain or retain benefits.

Frequency: Biannually.

Estimated Number of Annual Respondents: 82 respondents.

Estimated Number of Annual Responses: 82 responses.

Estimated Time per Response: The USPTO estimates that the responses in this information collection will take the public approximately between 30 minutes (0.50 hours) and 4 hours to complete. This includes the time to gather the necessary information, create the document, and submit the completed item to the USPTO.

Estimated Total Annual Respondent Burden Hours: 322 hours.

Estimated Total Annual Respondent Hourly Cost Burden: $143,934.

² 2023 Report of the Economic Survey, published by the Committee on Economics of Legal Practice of the American Intellectual Property Law Association (AIPLA); pg. F-41. The USPTO uses the average billing rate for intellectual property work in all firms which is $447 per hour (https://www.aipla.org/home/news-publications/economic-survey).

Table 1—Total Burden Hours and Hourly Costs to Private Sector Respondents
Item No. | Item | Estimated annual respondents | Responses per respondent | Estimated annual responses | Estimated time for response (hours) | Estimated burden (hour/year) | Rate ² ($/hour) | Estimated annual respondent cost burden
|  | (a) | (b) | (a) × (b) = (c) | (d) | (c) × (d) = (e) | (f) | (e) × (f) = (g)
1 | Humanitarian Program Application (Humanitarian Use) | 25 | 1 | 25 | 4 | 100 | $447 | $44,700
2 | Humanitarian Program Application (Humanitarian Research) | 25 | 1 | 25 | 4 | 100 | 447 | 44,700
3 | Petition to Extend the Redemption Period of the Humanitarian Award Certificate | 1 | 1 | 1 | 1 | 1 | 447 | 447
4 | Transfer of Awards Certificate | 1 | 1 | 1 | 0.50 (30 minutes) | 1 | 447 | 447
5 | Trademarks for Humanity Application | 30 | 1 | 30 | 4 | 120 | 447 | 53,640
Totals |  | 82 |  | 82 |  | 322 |  | 143,934

Estimated Total Annual Respondent Non-hourly Cost Burden: $0. There are no capital start-up costs, maintenance costs, recordkeeping costs, filing fees, or postage costs associated with this information collection.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-24920 Filed 10-24-24; 8:45 am]

BILLING CODE 3510-16-P